COORDINATING COUNCIL ON JUVENILE JUSTICE AND DELINQUENCY PREVENTION

[OJP (OJJDP) Docket No. 1524]

Request for Public Comments

AGENCY: Coordinating Council on Juvenile Justice and Delinquency Prevention.

ACTION: Notice of request for public comments.

SUMMARY: The Coordinating Council on Juvenile Justice and Delinquency Prevention (Council) requests public comments in connection with its assessment of Federal policy and practice that affect children, youth, and families. Interested individuals and organizations are invited to submit ideas, insights, reflections, and suggestions grounded in experience in and with Federal support as to Federal policies and practices that either support or act as a barrier related to juvenile justice outcomes. The Council has identified four priority issue areas for this close examination: (1) Education and At-Risk Youth, (2) Juvenile Reentry and Transitions into Adulthood, (3) Racial/Ethnic Disparities in the Juvenile Justice and Related Systems, and (4) Tribal Youth and Juvenile Justice. Please note that the deadline for comments is thirty days (instead of the customary sixty days) after the publication of this notice in the Federal Register—this is due to the scheduling needs of the Council.

DATES: Comments must be received on or before August 9, 2010.

ADDRESSES: You may submit comments electronically via http://www.regulations.gov. Search for `Juvenile Council' to get to the docket for this notice. The Council prefers to receive comments through http://www.regulations.gov where possible; however, you may also mail them to Robin Delany-Shabazz, Office of Juvenile Justice and Delinquency Prevention, 810 Seventh Street, NW., Washington, DC 20531. To ensure proper handling, in the lower left hand corner of the envelope and in your correspondence clearly reference “OJP (OJJDP) Docket No. 1524.”

FOR FURTHER INFORMATION: Visit the website for the Council at http://www.juvenilecouncil.gov; call the Office of Juvenile Justice and Delinquency Prevention at 202-307-5911 (this is not a toll-free number); or e-mail your inquiry to juvenilecouncil@usdoj.gov (please submit any comments through http://www.regulations.gov).

SUPPLEMENTARY INFORMATION:

I. Posting of Public Comments

Please note that all comments received are considered part of the public record and may be made available in their entirety for public inspection online at the Council's website and http://www.regulations.gov. Publicly available information in posted comments includes personal identifying information (such as name and address) voluntarily submitted by the commenter.

If you wish to submit personal identifying information (such as your name, address, etc.) as part of your comment, but do not wish for it to be posted online, you must include the phrase “PERSONAL IDENTIFYING INFORMATION” in the first paragraph of your comment. You also must locate all the personal identifying information you do not wish to be posted online in the first paragraph of your comment and identify what information you would like redacted.

If you wish to submit confidential business information as part of your comment but do not wish for it to be posted online, you must include the phrase “CONFIDENTIAL BUSINESS INFORMATION” in the first paragraph of your comment. You also must prominently identify confidential business information to be redacted within the comment. If a comment has so much confidential business information that it cannot be effectively redacted, all or part of that comment may not be posted online.

Personal identifying information and confidential business information identified and located as set forth above will be placed in the Council's public docket file, but not posted online. If you wish to inspect the docket file in person by appointment, please see the FOR FURTHER INFORMATION CONTACT paragraph.

II. Overview of Coordinating Council

The Coordinating Council on Juvenile Justice and Delinquency Prevention, established pursuant to Section 3(2)A of the Federal Advisory Committee Act (5 U.S.C. App. 2) works to carry out its advisory functions under Section 206 of the Juvenile Justice and Delinquency Prevention Act of 2002, 42 U.S.C. 5601, et seq.

The Council membership is composed of the Attorney General (Chair), the Administrator of the Office of Juvenile Justice and Delinquency Prevention (Vice Chair), the Secretary of Health and Human Services (HHS), the Secretary of Labor, the Secretary of Education, the Secretary of Housing and Urban Development, the Director of the Office of National Drug Control Policy, the Chief Executive Officer of the Corporation for National and Community Service, and the Assistant Secretary of Homeland Security for U.S. Immigration and Customs Enforcement. Affiliate agencies are the Departments of Defense, the Interior, and Agriculture and the Substance and Mental Health Services Administration of HHS. Other Federal agencies may take part in Council activities. Up to nine additional members are appointed by the Speaker of the House of Representatives, the Senate Majority Leader, and the President of the United States.

The Council has initiated cross-department teams of Federal employees and others organized around four priority issues:

• Education and At-Risk Youth

• Tribal Youth and Juvenile Justice

• Juvenile Reentry and Transitions to Adulthood

• Racial/Ethnic Disparities in the Juvenile Justice System and Related Systems

The issue teams are assessing and identifying policies, practices, regulations, and where applicable, legislation, that foster or hinder ways to improve access to, use of and coordination of Federal resources by Tribes, states, localities, organizations and individuals toward the goal of improving Federal practice and, by extension, the well being of children and families. Resulting recommendations may be incorporated by the Council in its 2010 Annual Report to Congress.

III. Brief Descriptions of Priority Issues

1. Education and At-Risk Youth

The best way to keep young people out of trouble is to keep them in school. Without structure and supervision that school provides, young people often turn to delinquent or criminal behavior during school hours and end up in the juvenile justice system, with most not completing high school. A number of factors contribute to the failure of young people to complete schooling including: Chronic truancy, educational instability, “push out,” issues of access, co-occuring factors, school connectedness, and the absences of positive activities for afterschool times.

2. Juvenile Reentry and Transitions to Adulthood

Young people reentering the community from juvenile residential facilities often lack the support they need to change the course of their lives and avoid the destructive cycle of recidivism. The multiple needs of these young people (schooling, stable housing, skills to obtain meaningful employment, physical and mental health problems, etc.) require coordination of services, supervision, and support at the local level to help ensure each youth a successful transition back home and to adulthood. Youth aging out of foster care and youth who are homeless have similar needs for transitional support. A number of Federal policies, practices, programs, and legislation affect local and state capacity to provide solid support through transition.

3. Racial and Ethnic Disparities in the Juvenile Justice and Related Systems

Disproportionate contact of minorities (DMC) in juvenile justice has been a challenge for policymakers for decades. DMC is not an issue specific to the justice system; it is connected with inequities in other youth-serving systems and requires exploration of the relationship between child welfare, education, and youth's socioeconomic status. The team seeks to identify Federal legislation and practices that both assist States and those that function as barriers in reducing disparities in juvenile justice, child welfare, and education.

4. Tribal Youth and Juvenile Justice

Tribal youth face a host of challenges—poverty, child abuse and neglect, exposure to family violence, substance abuse, the highest rate of suicides among all youth, and a weak educational system. Without intervention and remediation these issues can lead to additional negative outcomes including delinquency. Multiple Federal agencies have specific responsibility for working with Indian Country, notably, the Departments of Agriculture, Justice, Health and Human Services, Housing and Urban Development, and Interior. The overlapping mosaic of policies, regulations, guidelines and programs can challenge achievement of desired results.

IV. Guiding Questions for Commenters

The Council's issue teams have identified a number of questions to focus their examination, and the Council is particularly interested in receiving comments addressing some or all of these questions. The first question for three of the topic areas is listed by topic as follows:

Education and At-Risk Youth: What is the Federal role in preventing youth from entering the juvenile justice system and successfully graduating from high school prepared for adulthood?

Juvenile Reentry and Transitions to Adulthood: What is the Federal role in helping ensure youth graduate and successfully transition back home and into adulthood (from juvenile facilities, out of the foster care system, and in returning home and to their communities from runaway/thrown away/homeless status)?

Racial and Ethnic Disparities in the Juvenile Justice and Related Systems: How do you view the Federal role with regard to racial and ethnic disparities?

For these first three topic areas, all of the questions below also apply:

a. What does the Federal government do well? What needs to be changed?

b. Are there Federal practices, policies, legislation, and/or regulations that support or restrict the successful education of youth; reentry and/or transitions to adulthood; or addressing of racial/ethnic disparities in the juvenile justice and related systems? What role does technical/training support have in redressing restrictions?

c. Are there legislative challenges affecting this issue that should be brought to the attention of the Federal agencies? What ought Federal agencies do about them?

d. What results and/or consequences might occur from the enacted recommendations?

e. Is there anything else the Federal government should be aware of concerning this topic?

The Council's Tribal Youth issue team requests public comments addressing the following questions:

a. How do you view the Federal role with regard to tribal youth and their families?

b. What does the Federal government do well for tribal youth? What needs to be changed?

c. Describe what Federal practices, policies, or regulations support or fail to support Tribal youth and their families. What comes to mind when you think of barriers? Alternatively, areas of good practice (to meeting the needs for belonging, mastery, independence and generosity)?

d. Are there legislative challenges affecting issues related to Tribal youth and juvenile justice that should be brought to the attention of the Federal agencies? What ought Federal agencies do about them? Who are the key people to help with this issue?

e. What results and/or consequences might occur in Indian Country from enacted recommendations? Are there individuals, agencies or systems that might not welcome the recommendations or changes in policies (Tribal Youth, Tribes, and Agencies)?

f. Is there anything else the Federal government should be aware of concerning tribal youth justice, specifically in the areas of youth prevention, intervention, detention and reentry?

Robin Delany-Shabazz,
Designated Federal Official, Coordinating Council on Juvenile Justice and Delinquency Prevention.

[FR Doc. 2010-16696 Filed 7-7-10; 8:45 am]

BILLING CODE 4410-18-P